DEPARTMENT OF ENERGY

Federal Energy Regulatory Commission

[Project No. 8864-016 Washington]

Calligan Hydro Inc., Notice of Availability of Draft Environmental Assessment

June 27, 2001.

In accordance with the National Environmental Policy Act of 1969 and the Federal Energy Regulatory Commission's (Commission) regulations, 18 CFR part 380 (Order No. 486, 52 FR 47897), the Office of Energy Projects has reviewed the application for amendment of the license for the Calligan Creek Hydroelectric Project, located on Calligan Creek in King County, Washington, and has prepared a Draft Environmental Assessment (DEA) for the project. No federal lands are affected by this project.

The DEA contains the staff's analysis of the potential environmental impacts of modifications to the project and concludes that amending the license for the project, with appropriate environmental protective measures, would not constitute a major federal action that would significantly affect the quality of the human environment.

Copies of the DEA are available for review at the Commission's Public Reference Room, located at 888 First Street, NE., Washington, DC 20426, or by calling (202) 208-1371. The DEA may be viewed on the web at http//www.ferc.fed.us/online/rims.htm (call (202) 208-2222 for assistance).

Any comments should be filed within 30 days from the date of this notice and should be addressed to David P. Boergers, Secretary, Federal Energy Regulatory Commission, 888 First Street, NE., Washington, DC 20426. Please affix Project No. 8864-016 to all comments. Comments, protests and interventions may be filed electronically via the internet in lieu of paper. See 18 CFR 385.2001(a)(1)(iii) and the instructions on the Commission's web site at http://www.ferc.fed.us/efi/doorbell.htm.

For further information, contact Kenneth Hogan at (202) 208-0434.

Linwood A. Watson, Jr.,
Acting Secretary.

[FR Doc. 01-16642 Filed 7-2-01; 8:45 am]

BILLING CODE 6717-01-M